FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 017973NF.

Name: C D S Overseas, Inc.

Address: 440 South Hindry Avenue, Suite A, Inglewood, CA 90301.

Date Revoked: September 4, 2014.

Reason: Failed to maintain valid bonds.

License No.: 019710N.

Name: Menuet Maritime Services, Inc. dba U-Box Worldwide.

Address: 10900 Brittmore Drive, Suite B, Houston, TX 77041.

Date Revoked: August 29, 2014.

Reason: Failed to maintain a valid bond.

License No.: 022452NF.

Name: Ocean Cargo Express Lines, LLC.

Address: 11892 Speedway Blvd., Hardeeville, SC 29927.

Date Revoked: August 31, 2014.

Reason: Failed to maintain valid bonds.

License No.: 022604F.

Name: Tri-Vi-U.S. Logistics Ltd.

Address: 170 East Sunrise Highway, Valley Stream, NY 11580.

Date Revoked: August 27, 2014.

Reason: Failed to maintain a valid bond.

License No.: 022930NF.

Name: Sea Horse Express Inc.

Address: 69 Le Fante Way, Bayonne, NJ 07002.

Date Revoked: September 5, 2014.

Reason: Failed to maintain valid bonds.

License No.: 023750N.

Name: Bluesea Logistics Corporation.

Address: 201 W. Garvey Avenue, Suite 102-390, Monterey Park, CA 91754.

Date Revoked: August 20, 2014.

Reason: Failed to maintain a valid bond.

License No.: 024096N.

Name: LEL Caribe, LLC dba C & F Worldwide Logistics.

Address: 2098 West Chester Pike, Suite 201, Broomall, PA 19008.

Date Revoked: September 1, 2014.

Reason: Failed to maintain a valid bond.

Sandra L. Kusumoto,
Director, Bureau of Certification and Licensing.

[FR Doc. 2014-22383 Filed 9-18-14; 8:45 am]

BILLING CODE 6730-01-P